DEPARTMENT OF EDUCATION

Privacy Act of 1974; System of Records

AGENCY: Federal Student Aid, U.S. Department of Education.

ACTION: Notice of an altered system of records.

SUMMARY: In accordance with the Privacy Act of 1974, as amended (Privacy Act), 5 United States Code (U.S.C.) 552a, the Chief Operating Officer for Federal Student Aid (FSA) of the U.S. Department of Education (Department) publishes this notice proposing to revise the system of records entitled “National Student Loan Data System (NSLDS)” (18-11-06), 64 FR 72395-72397 (December 27, 1999).

In this notice, the Department proposes to revise this system of records to make updates needed as a result of legislative changes to the Higher Education Act of 1965, as amended (HEA) made by the College Cost Reduction and Access Act of 2007 (Pub. L. 110-84), enacted on September 27, 2007, and by the Higher Education Opportunity Act (Pub. L. 110-315) (HEOA), enacted on August 14, 2008. As a result of these legislative changes, we have updated the categories of records maintained in this system, clarified the categories of individuals covered by the system and the system's purposes, and expanded the routine uses to reflect needed programmatic disclosures.

DATES: The Department seeks comments on the proposed routine uses in the altered system of records notice on or before October 7, 2010.

The Department filed a report describing the altered system of records covered by this notice with the Chair of the Senate Committee on Homeland Security and Governmental Affairs, the Chair of the House Committee on Oversight and Government Reform, and the Administrator of the Office of Information and Regulatory Affairs, Office of Management and Budget (OMB), on September 1, 2010. This altered system of records will become effective at the later date of: (1) The expiration of the 40-day period for OMB review on October 12, 2010; or (2) October 7, 2010, unless the system of records needs to be changed as a result of public comment or OMB review.

ADDRESSES: Address all comments about the proposed routine uses in this altered system of records to Director, NSLDS Systems, Application, Operations and Delivery Services, Federal Student Aid, U.S. Department of Education, 830 First Street, NE., room 44E3, Union Center Plaza (UCP), Washington, DC 20202-5454. If you prefer to send comments by e-mail, use the following address: comments@ed.gov.

You must include the term “NSLDS comments” in the subject line of your electronic message.

During or after the comment period, you may inspect all public comments about this notice in room 44D2, UCP, 6th floor, 830 First Street, NE., UCP, Washington, DC, between the hours of 8 a.m. and 4:30 p.m., local time, Monday through Friday of each week except Federal holidays.

Assistance to Individuals With Disabilities in Reviewing the Rulemaking Record

On request, we will supply an appropriate accommodation or auxiliary aid, such as a reader or print magnifier, to an individual with a disability who needs assistance to review the comments or other documents in the public rulemaking record for this notice. If you want to schedule an appointment for this type of accommodation or auxiliary aid, please contact the person listed under FOR FURTHER INFORMATION CONTACT.

FOR FURTHER INFORMATION CONTACT: Director, NSLDS Systems, Application, Operations and Delivery Services, Federal Student Aid, U.S. Department of Education, 830 First Street, NE., room 44E3, UCP, Washington, DC 20202-5454. If you use a telecommunications device for the deaf (TDD), you can call the Federal Relay Service (FRS) at 1-800-877-8339.

SUPPLEMENTARY INFORMATION:

Introduction

The Privacy Act of 1974 (5 U.S.C. 552a(e)(4) and (11)) requires the Department to publish in the Federal Register this notice of an altered systems of records. The Department's regulations implementing the Privacy Act are contained in the Code of Federal Regulations (CFR) in 34 CFR part 5b.

The Privacy Act applies to information about an individual that is maintained in a system of records from which information is retrieved by a unique identifier associated with each individual, such as a name or Social Security number (SSN). The information about each individual is called a “record,” and the system, whether manual or computer-based, is called a “system of records.”

The Privacy Act requires each agency to publish notices of systems of records in the Federal Register and to prepare, whenever the agency publishes a new system of records or makes a significant change to an established system of records, reports to the Chair of the Committee on Oversight and Government Reform of the House of Representatives, the Chair of the Committee on Homeland Security and Governmental Affairs of the Senate, and the Administrator of the Office of Information and Regulatory Affairs, OMB.

A system of records is considered “altered” whenever an agency expands the types or categories of information maintained, significantly expands the types or categories of individuals about whom records are maintained, changes the purpose for which the information is used, changes the equipment configuration in a way that creates substantially greater access to the records, or adds a routine use disclosure to the system. Since this system of records was published in the Federal Register on December 27, 1999 (64 FR 72395-97), a number of changes are needed to update and accurately describe the current system of records. Most significantly, this notice expands the type of information maintained in the system, clarifies the categories of individuals covered by the system and the system's purposes, and reflects the current programmatic routine use disclosures needed to carry out responsibilities under the HEA.

This system of records will facilitate the Secretary of Education's performance of statutory duties to prescribe standards and procedures under section 485B of the HEA (including relevant definitions) that require all eligible institutions, lenders and guaranty agencies to report information on all aspects of loans and grants made under Title IV of the HEA in uniform formats in order to permit the direct comparison of data submitted by individual institutions, lenders, servicers, or guaranty agencies.

The changes proposed are intended to expand the information maintained in the system of records so that it would now include all of the loans and grants made under Title IV of the HEA, to clarify the categories of individuals covered by the system and the system's purposes, and to add routine uses to make disclosures needed to carry out statutory responsibilities contained in the system. This altered notice better reflects the current programmatic routine use disclosures needed by FSA to establish applicant eligibility as required under the HEA. Collectively, these revisions will enhance the ability of the Secretary to collect and maintain information on loans made, insured, or guaranteed under Part B of Title IV of the HEA, and loans made under Parts D and E of Title IV of the HEA.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF), on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: September 1, 2010.
William J. Taggart,
Chief Operating Officer, Federal Student Aid U.S. Department of Education.

For the reasons discussed in the preamble, the Chief Operating Officer, Federal Student Aid, of the U.S. Department of Education (Department) publishes a notice of an altered system of records to read as follows:

SYSTEM NUMBER:

18-11-06

SYSTEM NAME:

National Student Loan Data System (NSLDS)

SECURITY CLASSIFICATION:

None.

SYSTEM LOCATION:

Dell Perot Systems, 2300 West Plano Parkway, Plano, TX 75075-8247 (Virtual Data Center).

Iron Mountain, PO Box 294317, Lewisville, Texas 75029-4317 (System Back-Up Location).

CATEGORIES OF INDIVIDUALS COVERED BY THE SYSTEM:

This system contains records on borrowers who have applied for and received loans under the William D. Ford Federal Direct Loan (Direct Loan) Program, the Federal Family Education Loan (FFEL) Program, the Federal Insured Student Loan (FISL) Program, and the Federal Perkins Loan Program (including National Defense Student Loans, National Direct Student Loans, Perkins Expanded Lending and Income Contingent Loans) (Perkins Loans). The NSLDS also contains records on recipients of Federal Pell Grants, Academic Competitiveness Grants (ACG), National Science and Mathematics Access to Retain Talent (National SMART) Grants, and Teacher Education Assistance for College and Higher Education (TEACH) Grants, the Iraq and Afghanistan Service Grants, as well as on persons who owe an overpayment on a Federal Pell Grant, an ACG Grant, a National SMART Grant, a Federal Supplemental Educational Opportunity Grant (FSEOG), Iraq or Afghanistan Service Grant, or a Federal Perkins Loan. NSLDS contains student enrollment information for those who have received an FFEL Loan, an FISL Loan, a Direct Loan, or a Perkins Loan. NSLDS contains Master Conduit Loan Program Data Master Loan Participation Program (LPP) Data and loan level detail on FFEL Subsidized, Unsubsidized, and PLUS loans funded through those programs. This system contains records on borrowers under the Title IV, HEA loan programs.

CATEGORIES OF RECORDS IN THE SYSTEM:

Records in NSLDS include, but are not limited to: (1) Borrower identifier information including Social Security Number (SSN), name, date of birth, and driver's license; (2) information on the borrower's loans covering the period from the origination of the loan through final payment, cancellation, consolidation, discharge, or other final disposition including details such as loan amount, disbursements, balances, loan status, collections, claims, deferments, refunds, and cancellations; (3) student enrollment information including school(s) attended, course of study, anticipated completion date, enrollment status and effective dates; (4) student demographic information such as dependency status, citizenship, veteran status, marital status, gender, income and asset information, expected family contribution, and address; (5) information provided by the parent(s) of a dependent recipient, including, but not limited to: Name, date of birth, SSN, marital status, e-mail address, highest level of schooling completed, and income and asset information; (6) information about the spousal income and asset information of a married borrower who is repaying a Title IV loan under an income-based repayment plan; (7) Federal Pell Grant, ACG Grant, National SMART Grant, TEACH Grant, and Iraq and Afghanistan Service Grant amounts and dates of disbursement; (8) Federal Pell Grant, ACG Grant, National SMART Grant, Iraq and Afghanistan Service Grant, FSEOG, and Federal Perkins Loan Program overpayment amounts; (9) demographic and contact information on: The guaranty agency which guarantees the borrower's FFEL loan, and the lender, holder, and servicer of the borrower's loans; (10) NSLDS user profiles that include name, SSN, date of birth, employer, and NSLDS user name; (11) information concerning the date of any default on loans, the aggregated loan data to support cohort default rate calculations for educational institutions, financial institutions and guaranty agencies; (12) pre- and post-screening results used to determine a student or parent's aid eligibility; and, (13) information on financial institutions participating in the loan participation and sale programs established by the Department under the Ensured Continued Access to Student Loan Act of 2008 (ECASLA), including the collection of: ECASLA loan level funding amounts, dates of ECASLA participation for financial institutions, dates and amounts of loans sold to the Department under ECASLA, and the amount of loans funded by the Department's programs but repurchased by the lender.

AUTHORITY FOR MAINTENANCE OF THE SYSTEM:

20 U.S.C. 1092b. The collection of SSNs of borrowers who are covered by this system is authorized by 31 U.S.C. 7701 and Executive Order 9397 (November 22, 1943), as amended by Executive Order 13478 (November 18, 2008).

PURPOSE(S):

The information contained in this system is maintained for the following purposes relating to students and borrowers: (1) To determine student/borrower eligibility for Title IV programs by NSLDS pre- and post-screening processes; (2) to report changes in student/borrower enrollment status via the Enrollment Reporting Process; (3) to track loan borrowers and students who owe grant overpayment amounts (debtors); (4) to provide an Exit Counseling tool for FFEL and Direct Loan programs that provides various calculators, requires students to complete a quiz to ensure understanding of their repayment obligations, and collects information to assist in the activity of skip-tracing for loan holders; (5) to provide Web-based access for borrowers/students to their loan, grant, and enrollment data; (6) to maintain information on the status of student loans; (7) to maintain information on Federal Pell, ACG, National SMART, TEACH, and Iraq and Afghanistan Service Grant awards to students; and (8) to provide borrowers and NSLDS users with loan refund/cancellation details. The information maintained in this system is also maintained for the following purposes relating to institutions participating in and administering the Title IV programs: (1) To permit guaranty agencies, eligible lenders, and eligible institutions of higher education to verify the eligibility of a student, potential student, or parent for loans; (2) to provide student aggregate loan calculations to educational institutions; (3) to track loan transfers from one entity to another; (4) to determine default rates for educational institutions, guaranty agencies, and lenders; (5) to prepare electronic financial aid histories on students or borrowers for educational institutions, guaranty agencies, the Department's Office of the Ombudsman, and the Department's Direct Loan Servicing office; (6) to alert educational institutions of changes in financial aid eligibility of students via the Transfer Student Monitoring process; (7) to assist guaranty agencies, educational institutions, lenders, and servicers in collecting debts arising from receipt of Title IV funds; (8) to assess Title IV program administration of guaranty agencies, educational institutions, lenders, and servicers; (9) to display organization contact information provided by educational institutions, guaranty agencies, lenders, and servicers; (10) to provide reporting capabilities for educational institutions, guaranty agencies, lenders, and servicers for use in Title IV administrative functions and for the Department for use in oversight and compliance; (11) to provide financial institutions, servicers, and the Department's Debt Collection office contact information on loan holders for use in the collection of loans; (12) to provide schools and servicers information to resolve overpayments of Pell, ACG, National SMART, TEACH, Iraq and Afghanistan Service Grants, and FSEOG grants; and (13) to assist Department staff, contractors, guaranty agencies and the Department of Justice in the collection of debts owed to the Department under Title IV of the HEA. The information maintained in this system is also maintained for the following purposes relating to the Department's oversight and administration of the Title IV programs: (1) To assist audit and program review planning; (2) to support research studies and policy development; (3) to conduct budget analysis and program review planning; (4) to provide information that supports the Department's compliance with the Federal Credit Reform Act of 1990, as amended (CRA); (5) to ensure only authorized users access the database and to maintain a history of the student/borrower information reviewed; (6) to track the Department's interest in loans funded through ECASLA; (7) to track TEACH grants that have been converted to loans; and (8) to track eligibility and participation in Public Service Loan Forgiveness.

ROUTINE USES OF RECORDS MAINTAINED IN THE SYSTEM, INCLUDING CATEGORIES OF USERS AND THE PURPOSES OF SUCH USES:

The Department may disclose information contained in a record in this system of records under the routine uses listed in this system of records notice without the consent of the individual if the disclosure is compatible with the purposes for which the record was collected. These disclosures may be made on a case-by-case basis or, if the Department has complied with the computer matching requirements of the Privacy Act of 1974, as amended, under a computer matching agreement.

(1) Program Disclosures. The Department may disclose records for the following program purposes:

(a) To verify the identity of the applicant involved, the accuracy of the record, or to assist with the determination of program eligibility and benefits, the Department may disclose records to the applicant, guaranty agencies, educational institutions, financial institutions and servicers, and to Federal and State agencies;

(b) To support default rate calculations and/or provide information on borrowers' current loan status, the Department may disclose records to guaranty agencies, educational institutions, financial institutions, servicers, and State agencies;

(c) To provide financial aid history information to aid in their administration of Title IV programs, the Department may disclose records to financial aid professionals, guaranty agencies, loan holders, or servicers;

(d) To support auditors and program reviewers in planning and carrying out their assessments of Title IV program compliance, the Department may disclose records to guaranty agencies, educational institutions, financial institutions and servicers and to Federal, State and local agencies;

(e) To support governmental researchers and policy analysts, the Department may disclose records to Federal, State and local agencies using safeguards for system integrity and ensuring compliance with the Privacy Act;

(f) To support Federal budget analysts in the development of budget needs and forecasts, the Department may disclose records to Federal and State agencies;

(g) To assist in locating holders of loan(s), the Department may disclose records to students/borrowers, guaranty agencies, educational institutions, financial institutions and servicers, and Federal agencies;

(h) To assist analysts in assessing Title IV program administration by guaranty agencies, educational institutions, and financial institutions and servicers, the Department may disclose records to Federal and State agencies;

(i) To assist loan holders in locating borrowers, the Department may disclose records to guaranty agencies, educational institutions, financial institutions that hold an interest in the loan and their servicers, and to Federal agencies;

(j) To assist with meeting requirements under the CRA, the Department may disclose records to Federal agencies;

(k) To assist program administrators with tracking refunds and cancellations of Title IV loans, the Department may disclose records to guaranty agencies, educational institutions, financial institutions and servicers, and to Federal and State agencies;

(l) To enforce the terms of a loan, assist in the collection of a loan or assist in the collection of an aid overpayment, the Department may disclose records to guaranty agencies, loan servicers, educational institutions and financial institutions that hold an interest in the debt, and to Federal, State, or local agencies; and

(m) To assist the Department in tracking loans funded under ECASLA, the Department may disclose records to Federal agencies.

(2) Disclosure for Use by Other Law Enforcement Agencies. The Department may disclose information to any Federal, State, or local or foreign agency or other public authority responsible for enforcing, investigating, or prosecuting violations of administrative, civil, or criminal law or regulation if that information is relevant to any enforcement, regulatory, investigative, or prosecutorial responsibility within the receiving entity's jurisdiction.

(3) Enforcement Disclosure. In the event that information in this system of records indicates, either on its face or in connection with other information, a violation or potential violation of any applicable statute, regulation, or order of a competent authority, the Department may disclose the relevant records to the appropriate agency, whether foreign, Federal, State, tribal or local, charged with the responsibility of investigating or prosecuting that violation or charged with enforcing or implementing the statute, Executive Order, rule, regulation, or order issued pursuant thereto.

(4) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department or any of its components; or

(ii) Any Department employee in his or her official capacity; or

(iii) Any Department employee in his or her individual capacity where the Department of Justice (DOJ) agrees to or has been requested to provide or arrange for representation of the employee; or

(iv) Any Department employee in his or her individual capacity where the Department has agreed to represent the employee; or

(v) The United States, where the Department determines that the litigation is likely to affect the Department or any of its components.

(b) Disclosure to the DOJ. If the Department determines that disclosure of certain records to the DOJ is relevant and necessary to litigation or ADR, and is compatible with the purpose for which the records were collected, the Department may disclose those records as a routine use to the DOJ.

(c) Adjudicative Disclosures. If the Department determines that disclosure of certain records to an adjudicative body before which the Department is authorized to appear or to an individual or entity designated by the Department or otherwise empowered to resolve or mediate disputes is relevant and necessary to litigation or ADR, the Department may disclose those records as a routine use to the adjudicative body, individual, or entity.

(d) Parties, Counsel, Representatives, and Witnesses. If the Department determines that disclosure of certain records is relevant and necessary to litigation or ADR, the Department may disclose those records as a routine use to the party, counsel, representative, or witness.

(5) Freedom of Information Act (FOIA) or Privacy Act Advice Disclosure. The Department may disclose records to the DOJ or the Office of Management and Budget (OMB) if the Department seeks advice regarding whether records maintained in this system of records are required to be disclosed under the FOIA or the Privacy Act.

(6) Contract Disclosure. If the Department contracts with an entity to perform any function that requires disclosing records to the contractor's employees, the Department may disclose the records to those employees. Before entering into such a contract, the Department shall require the contractor to establish and maintain the safeguards required under the Privacy Act (5 U.S.C. 552a(m)) with respect to the records in the system.

(7) Congressional Member Disclosure. The Department may disclose records to a Member of Congress in response to an inquiry from the Member made at the written request of the individual whose records are being disclosed. The Member's right to the information is no greater than the right of the individual who requested it.

(8) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public authority or professional organization, in connection with the hiring or retention of an employee or other personnel action, the issuance of a security clearance, the reporting of an investigation of an employee, the letting of a contract, or the issuance of a license, grant, or other benefit, to the extent that the record is relevant and necessary to the receiving entity's decision on the matter.

(9) Employee Grievance, Complaint, or Conduct Disclosure. The Department may disclose a record in this system of records to another agency of the Federal Government if the record is relevant to one of the following proceedings regarding a present or former employee of the Department: Complaint, grievance, or disciplinary or competency determination proceedings. The disclosure may only be made during the course of the proceeding.

(10) Labor Organization Disclosure. The Department may disclose records from this system of records to an arbitrator to resolve disputes under a negotiated grievance procedure or to officials of labor organizations recognized under 5 U.S.C. chapter 71 when relevant and necessary to their duties of exclusive representation.

(11) Disclosure to the DOJ. The Department may disclose records to the DOJ to the extent necessary for obtaining DOJ advice on any matter relevant to an audit, inspection, or other inquiry related to the programs covered by this system.

(12) Disclosure to the OMB for CRA Support. The Department may disclose records to OMB as necessary to fulfill CRA requirements. These requirements currently include transfer of data on lender interest benefits and special allowance payments, defaulted loan balances, and supplemental pre-claims assistance payments information.

(13) Disclosure in the Course of Responding to Breach of Data. The Department may disclose records from this system to appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

DISCLOSURE TO CONSUMER REPORTING AGENCIES:

Disclosures pursuant to 5 U.S.C. 552a(b)(12): The Department may disclose the following information to a consumer reporting agency regarding a valid overdue claim of the Department: (1) The name, address, taxpayer identification number and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined at 15 U.S.C. 1681a(f) and 31 U.S.C. 3701(a)(3).

POLICIES AND PRACTICES FOR STORING, RETRIEVING, ACCESSING, RETAINING, AND DISPOSING OF RECORDS IN THE SYSTEM:

STORAGE:

The records are maintained electronically.

RETRIEVABILITY:

In order for users to retrieve student/borrower information they must supply the student/borrower SSN, name, and date of birth.

SAFEGUARDS:

Physical access to this system housed within the Virtual Data Center is controlled by a computerized badge reading system, and the entire complex is patrolled by security personnel during non-business hours. The computer system employed by the Department offers a high degree of resistance to tampering and circumvention. Multiple levels of security are maintained within the computer system control program. This security system limits data access to Department and contract staff on a “need-to-know” basis, and controls individual users' ability to access and alter records within the system. All users of this system of records are given a unique user ID with personal identifiers. All interactions by individual users with the system are recorded.

RETENTION AND DISPOSAL:

Records are retained for 15 years after an account is paid in full, then destroyed in accordance with the Department's records retention and disposition schedule 051.

SYSTEM MANAGER(S) AND ADDRESS:

Director, National Student Loan Data System, Federal Student Aid, U.S. Department of Education, 830 First Street, NE., UCP, room 44D2, Washington, DC 20202-5454.

NOTIFICATION PROCEDURE:

If you wish to determine whether a record exists regarding you in this system of records, contact the system manager and provide your name, date of birth, SSN, and the name of the school or lender from which the loan or grant was obtained. Requests for notification about whether the system of records contains information about an individual must meet the requirements of the regulations at 34 CFR 5b.5, including proof of identity.

RECORD ACCESS PROCEDURES:

If you wish to gain access to a record in this system, contact the system manager and provide information as described in the notification procedure. Requests by an individual for access to a record must meet the requirements of the regulations at 34 CFR 5b.5, including proof of identity.

CONTESTING RECORD PROCEDURES:

If you wish to contest the content of a record in the system of records, you must contact the system manager with the information described in the notification procedures, identify the specific item(s) to be changed, and provide a justification for the change, including any supporting documentation. Requests to amend a record must meet the requirements of the Department's Privacy Act regulations at 34 CFR 5b.7.

RECORD SOURCE CATEGORIES:

Information is obtained from the Free Application for Federal Student Aid completed by students and parents, guaranty agencies, educational institutions, financial institutions and servicers. Information is also obtained from other Department systems such as the Direct Loan Servicing System (covered by the system of records entitled “Common Services for Borrowers”); Debt Management Collection System (covered by the system of records entitled “Common Servicers for Borrowers”); Common Origination and Disbursement System; Financial Management System; Student Aid Internet Gateway, Participant Management System; Postsecondary Education Participants System and Central Processing System (covered by the system of records entitled “Federal Student Aid Application File”).

EXEMPTIONS CLAIMED FOR THE SYSTEM:

None.

[FR Doc. 2010-22224 Filed 9-3-10; 8:45 am]

BILLING CODE 4000-01-P